DEPARTMENT OF COMMERCE

Bureau of Economic Analysis

15 CFR Part 806

[Docket No. 100202061-0573-02]

RIN 0691—AA75

Direct Investment Surveys: BE-577, Quarterly Survey of U.S. Direct Investment Abroad—Direct Transactions of U.S. Reporter With Foreign Affiliate

AGENCY: Bureau of Economic Analysis, Commerce.

ACTION: Final Rule.

SUMMARY: This final rule amends regulations of the Bureau of Economic Analysis (BEA), Department of Commerce, to set forth the reporting requirements for BE-577 quarterly survey of U.S. direct investment abroad. BEA conducts the survey quarterly and obtains sample data on transactions and positions between U.S.-owned foreign business enterprises and their U.S. parents.

Through this rule, BEA will modify items on the survey form and the reporting criteria. Changes will bring the BE-577 forms and related instructions into conformity with the 2009 BE-10, Benchmark Survey of U.S. Direct Investment Abroad, and will raise the threshold for reporting.

DATES: The final rule will be effective January 10, 2011.

FOR FURTHER INFORMATION CONTACT: David H. Galler, Chief, Direct Investment Division, BE-50, Bureau of Economic Analysis, U.S. Department of Commerce, Washington, DC 20230; phone (202) 606-9835 or e-mail David.Galler@bea.gov.

SUPPLEMENTARY INFORMATION: On September 1, 2010, BEA published a notice of proposed rulemaking that set forth revised reporting criteria for the BE-577, Quarterly Survey of U.S. Direct Investment Abroad—Direct Transactions of U.S. Reporter With Foreign Affiliate, (75 FR 53611-53612). No comments on the proposed rule were received. Thus, the proposed rule is adopted without change. This final rule amends 15 CFR part 806.14 to set forth the reporting requirements for the BE-577 quarterly survey of U.S. direct investment abroad.

The BE-577 survey is a mandatory quarterly survey of U.S. direct investment abroad conducted by BEA under the International Investment and Trade in Services Survey Act, 22 U.S.C. 3101-3108 (the Act). BEA will send BE-577 survey forms to potential respondents each quarter; responses will be due within 30 days after the end of each quarter, except for the final quarter of the fiscal year when reports will be due within 45 days of the end of the quarter.

Description of Changes

BEA is making a number of changes to the BE-577 survey. BEA is increasing the exemption level for reporting on Form BE-577 to $60 million and will discontinue collecting information on transactions classified as permanent debt and related interest payments between U.S. parent companies that are banks, bank holding companies, or financial holding companies and their bank foreign affiliates. Recent changes in international standards call for the bank permanent debt previously classified as direct investment to be classified as other investment, for which statistics are collected by the Treasury Department through the Treasury International Capital System. BEA is changing the title of Form BE-577 to “Quarterly Survey of U.S. Direct Investment Abroad—Direct Transactions of U.S. Reporter With Foreign Affiliate.”

The exemption level was last changed in 2006 following the 2004 Benchmark Survey of U.S. Direct Investment Abroad. The exemption level is stated in terms of the foreign affiliate's assets, sales, and net income. U.S. parent companies must report data for their foreign affiliates if the affiliates have total assets, sales or gross operating revenues, or net income greater than $60 million (positive or negative). BEA expects about 14,500 survey forms to be reported each quarter, compared to 17,500 under the previous threshold for filing. About 3,000 affiliates—accounting for less than 1.5 percent of the statistics for income and direct investment position—will drop out of the sample and will be estimated based on reports received on the benchmark survey.

Survey Background

BEA, U.S. Department of Commerce, conducts the BE-577 survey under the authority of the International Investment and Trade in Services Survey Act (22 U.S.C. 3101-3108), hereinafter, “the Act.” Section 4(a) of the Act (22. U.S.C. 3103(a)) provides that, with respect to United States direct investment abroad, the President shall, to the extent he deems necessary and feasible, conduct a regular data collection program to secure current information on international capital flows and other information related to international investment and trade in services including (but not limited to) such information that may be necessary for computing and analyzing the United States balance of payments, the employment and taxes of United States parents and affiliates, and the international investment and trade in services position of the United States.

Executive Order 12866

This final rule has been determined to be not significant for purposes of E.O. 12866.

Executive Order 13132

This final rule does not contain policies with Federalism implications as that term is defined in E.O. 13132.

Paperwork Reduction Act

This collection-of-information in this final rule has been submitted to the Office of Management and Budget (OMB) under the Paperwork Reduction Act (PRA). OMB approved the information collection under control number 0608-0004.

Notwithstanding any other provisions of the law, no person is required to respond to, nor shall any person be subject to a penalty for failure to comply with, a collection-of-information subject to the requirements of the PRA unless that collection displays a currently valid OMB control number.

The BE-577 survey is expected to result in the filing of about 14,500 foreign affiliate reports by an estimated 1,750 U.S. parent companies. A parent company must file one form per affiliate. The respondent burden for this collection of information is estimated to vary from one-half hour to three hours per response, with an average of one hour per response, including time for reviewing instructions, searching existing data sources, gathering and maintaining the data needed, and completing and reviewing the collection of information. Because reports are filed 4 times per year, 58,000 responses annually are expected. Thus, the total annual respondent burden of the survey is estimated at 58,000 hours (14,500 respondents filing 4 times per year multiplied by 1 hour average burden). The survey's estimated respondent burden of 58,000 hours compares with a total respondent burden of 62,000 hours in the current OMB inventory of burden hours for this collection of information. The reduction in burden is a result of raising the threshold for filing.

Written comments regarding the burden-hour estimates or any other aspect of the collection-of-information requirements contained in the final rule should be sent both to the Bureau of Economic Analysis via mail to U.S. Department of Commerce, Bureau of Economic Analysis, Office of the Chief, Direct Investment Division, BE-50, Washington, DC 20230; via e-mail at David.Galler@bea.gov; or by FAX at (202) 606-5311, and to the Office of Management and Budget, O.I.R.A., Paperwork Reduction Project 0608-0004, Attention PRA Desk Officer for BEA, via e-mail at pbugg@omb.eop.gov, or by FAX at (202) 395-7245.

Regulatory Flexibility Act

The Chief Counsel for Regulation, Department of Commerce, has certified to the Chief Counsel for Advocacy, Small Business Administration (SBA), under the provisions of the Regulatory Flexibility Act (5 U.S.C. 605(b)), that this final rule will not have a significant economic impact on a substantial number of small entities. The factual basis for the certification was published in the proposed rule and is not repeated here. No comments were received regarding the certification or the economic impact of the rule more generally. No final regulatory flexibility analysis was prepared.

List of Subjects in 15 CFR Part 806

Economic statistics, International transactions, Penalties, Reporting and recordkeeping requirements, U.S. investment abroad.

Dated: November 18, 2010.
Brian C. Moyer,
Acting Director, Bureau of Economic Analysis.

For the reasons set forth in the preamble, BEA amends 15 CFR Part 806 as follows:

PART 806—DIRECT INVESTMENT SURVEYS

1. The authority citation for 15 CFR Part 806 continues to read as follows:

Authority: 5 U.S.C. 301; 22 U.S.C. 3101-3108; E.O. 11961 (3 CFR, 1977 Comp., p. 86), as amended by E.O. 12318 (3 CFR, 1981 Comp., p. 173); E.O. 12518 (3 CFR, 1985 Comp., p. 348).

2. Section 806.14(e) is revised to read as follows:

§ 806.14 U.S. direct investment abroad.

* * * * *

(e) Quarterly report form. BE-577, Quarterly Survey of U.S. Direct Investment Abroad—Direct Transactions of U.S. Reporter With Foreign Affiliate: One report is required for each foreign affiliate exceeding an exemption level of $60 million except that a report need not be filed by a U.S. Reporter to report direct transactions with one of its foreign affiliates in which it does not hold a direct equity interest unless an intercompany balance for the quarter exceeds $1 million.

* * * * *

[FR Doc. 2010-30970 Filed 12-8-10; 8:45 am]

BILLING CODE 3510-06-P